ENVIRONMENTAL PROTECTION AGENCY

40 CFR Part 420

[FRL-6961-7]

RIN 2040-AC90

Reopening of Comment Period for the Effluent Limitations Guidelines, Pretreatment Standards, and New Source Performance Standards for the Iron and Steel Manufacturing Point Source Category

AGENCY: Environmental Protection Agency.

ACTION: Reopening of comment period on proposed rule.

SUMMARY: On December 27, 2000 (65 FR 81963), EPA proposed revisions to the effluent limitations guidelines and standards for the iron and steel industry. The comment period closed on March 26, 2001. This action announces that EPA will reopen the comment period on the proposed rule until April 25, 2001.

DATES: Comments will be accepted through April 25, 2001.

ADDRESSES: Send written comments to Mr. George Jett at the following address: Office of Water, Engineering and Analysis Division (4303), U.S. EPA, 1200 Pennsylvania Avenue, NW., Washington, DC 20460. EPA requests an original and three copies of your comments and enclosures (including references). Commenters who want EPA to acknowledge receipt of their comments should enclose a self-addressed, stamped envelope. No facsimiles (faxes) will be accepted. Please submit any references cited in your comments.

Comments may also be sent via e-mail to jett.george@epa.gov. Electronic comments must specify docket number W-00-25 and must be submitted as an ASCII, Word, or WordPerfect file avoiding the use of special characters and any form of encryption. Electronic comments on this action may be filed online at many Federal Depository Libraries. No confidential business information (CBI) should be sent via e-mail.

FOR FURTHER INFORMATION CONTACT: Mr. George Jett at (202) 260-7151 or Mr. Kevin Tingley at (202) 260-9843.

SUPPLEMENTARY INFORMATION: If you already submitted comments to EPA in response to the proposed revisions to the effluent limitations guidelines and standards for the iron and steel industry (i.e., the documents published December 27, 2000, or February 14, 2001), and wish to submit additional comments per today's reopening, EPA requests that the later set of comments clearly specify whether they supplement or supersede the earlier-filed comments.

Dated: March 27, 2001.
Diane C. Regas,
Acting Assistant Administrator for Water.

[FR Doc. 01-8278 Filed 4-3-01; 8:45 am]

BILLING CODE 6560-50-P